DEPARTMENT OF HOMELAND SECURITY

Bureau of Citizenship and Immigration Services

[CIS No. 2304-03]

Direct Mail of Requests for Special Immigrant Classification and/or Adjustment of Status by Officers or Employees of International Organizations and Their Family Members

AGENCY: Bureau of Citizenship and Immigration Services, Department of Homeland Security.

ACTION: Notice.

SUMMARY: This notice advises eligible members of the international organization community that the Bureau of Citizenship and Immigration Services (CIS) is adjusting and expanding its Direct Mail Program by directing that all petitions for special immigrant classification pursuant to section 101(a)(27)(I) of the Immigration and Nationality Act (Act), whether submitted separately, or concurrently with an application for adjustment of status, be mailed to the Nebraska Service Center. Applicants who apply for adjustment of status based on a previously approved petition for special immigrant classification pursuant to section 101(a)(27)(I) of the Act must file their adjustment application at the Nebraska Service Center. We are making this change to provide better customer service.

DATES: This notice is effective February 2, 2004.

FOR FURTHER INFORMATION CONTACT: Corinna Luna-Benavides, Service Center Operations, Bureau of Citizenship and Immigration Services, Department of Homeland Security, 20 Massachusetts Avenue, NW, Washington, DC 20314, telephone (202) 305-8010.

SUPPLEMENTARY INFORMATION:

Background

What Is the Direct Mail Program?

Under the Direct Mail Program, individuals seeking certain immigration benefits, including classification as a special immigrant pursuant to section 101(a)(27)(I) of the Act, have been directed to mail the prescribed application or petition directly to a service center for processing instead of submitting it to a local office. See 61 FR 56060 (October 30, 1996). This centralized procedure has resulted in more efficient processing of applications through standardization, the elimination of duplicative work, and the increase in staff productivity.

What Authority Does CIS Have To Administer the Direct Mail Program?

On March 1, 2003, the functions of the Immigration and Naturalization Service (Service) were transferred from the Department of Justice to the Department of Homeland Security (DHS) pursuant to the Homeland Security Act of 2002, Public Law 107-296. The responsibility for the immigration-benefits-adjudications function of the Service, which includes the processes for the filing of petitions and applications, was transferred to CIS of the DHS.

Explanation of Changes

What Does This Notice Do?

This Notice advises eligible members of the international organization community that, as of February 23, 2004, if they wish to file a petition for classification as a special immigrant pursuant to section 101(a)(27)(I) of the Act on Form I-360, Petition for Amerasian, Widow(er), or Special Immigrant, the Form I-360 must be mailed to the Nebraska Service Center. If the petitioner wishes to file an application for adjustment of status on Form I-485, Application to Register Permanent Residence or Adjust Status, concurrently with the Form I-360, the Form I-485 must be mailed simultaneously (filed at the same time, bundled together in a single mailer or delivery packet, with proper filing fees, to the Nebraska Service Center). Applicants who file Form I-485 for adjustment of status based on a previously approved petition for classification as a special immigrant pursuant to section 101(a)(27)(I) of the Act, must now file their application for adjustment of status only at the Nebraska Service Center.

Does This Notice Make Any Changes Relating to an Alien's Eligibility for Classification as a Special Immigrant and/or Adjustment of Status?

No. This notice only alters the filing location for petitions and applications for adjustment of status, filed either concurrently or separately under the Direct Mail Program, submitted by international organizations' officers or employees and their family members seeking special immigrant classification pursuant to section 101(a)(27)(I) of the Act.

How Are These Petitions and Applications Currently Being Processed?

Currently, if an eligible alien were filing only a Form I-360 petition for classification as a special immigrant pursuant to section 101(a)(27)(I) of the Act, he or she would file the petition at the service center having jurisdiction over his or her place of residence. If an eligible alien were petitioning for special immigrant classification and applying for adjustment of status concurrently, then he or she would apply for both actions at his or her local district office. If an alien were applying for adjustment of status after his or her Form I-360 petition for classification as a special immigrant had been approved, then that alien would file a Form I-485 adjustment application at his or her local district office.

Why Is CIS Changing the Application Filing Location at This Time?

The CIS is consolidating the adjudication of these benefits at one location to enhance the uniformity of decisions and improve customer service.

Are There Any Advantages for an Alien Eligible for Classification as a Special Immigrant Pursuant to Section 101(a)(27)(I) of the Act To Concurrently File an Application for Adjustment of Status (Form I-485) With His or Her Petition for Special Immigrant Classification (Form I-360)?

For certain eligible aliens, it may be in their best interest to file concurrently because of statutory deadlines requiring them to file for adjustment of status by a certain date.

Why Would an Alien Eligible Under Section 101(a)(27)(I) of the Act Not Want To File an Application for Adjustment Concurrently With a Petition for Special Immigrant Classification?

There may be certain situations whereby aliens might wish to continue to maintain their current immigration status, while knowing that they have already qualified for special immigrant status. In addition, an eligible alien may be currently outside the United States and wish to file the petition for special immigrant classification with CIS, before applying for an immigrant visa abroad, rather than applying to adjust status in the United States.

How Will Eligible Applicants Be Notified of This Change in Filing Location?

In addition to this notice, CIS will be alerting those eligible aliens of the new filing procedures on its forms Web site, at http://www.uscis.gov/graphics/formsfee/index.htm. To ensure that all international organizations are aware of this change, the Department of State will be contacting these organizations to inform them of the new filing procedure.

When Will the New Procedure Become Effective?

This procedure becomes effective on February 23, 2004.

What Address Should Be Used?

If an alien is only submitting a petition for classification as a special immigrant (Form I-360) pursuant to section 101(a)(27)(I) of the Act, then the following address should be used: Nebraska Service Center, P.O. Box 87360, Lincoln, NE 68501-7360.

If an alien is concurrently submitting an application for adjustment of status (Form I-485) with a petition for classification as a special immigrant (Form I-360) pursuant to section 101(a)(27)(I) of the Act, or if an alien who has already had the Form I-360 approved by CIS pursuant to section 101(a)(27)(I) of the Act and later separately submits an application for adjustment of status (Form I-485), then the following address should be used: Nebraska Service Center, P.O. Box 87485, Lincoln, NE 68501-7485.

What Will Happen to the Petitions/Applications Already Filed?

Petitions for classification as a special immigrant pursuant to section 101(a)(27)(I) of the Act and any applications for adjustment of status based upon such special immigrant classification that have been filed with CIS prior to February 23, 2004, will be adjudicated to their completion at the service center or district office where they were originally filed.

What Will Happen to Those Applications/Petitions Filed at a Service Center or District Office After February 23, 2004?

Petitions for classification as a special immigrant pursuant to section 101(a)(27)(I) of the Act and any applications for adjustment of status based upon such special immigrant classification that are filed with CIS at a location other than the Nebraska Service Center after February 23, 2004, will be forwarded to the Nebraska Service Center until the instructions to the Forms I-360 and I-485 have been amended to include the correct filing address.

Will Aliens Applying for Adjustment of Status Be Interviewed?

Applicants may be eligible for a waiver of the interview pursuant to existing CIS interview waiver criteria. If the interview requirement is not waived, the case at the Nebraska Service Center will be referred to the district office where the applicant lives for an interview.

Which Applicants Will This Notice Affect?

This notice will affect those eligible individuals who have not yet submitted their petitions for special immigrant classification pursuant to section 101(a)(27)(I) of the Act and/or filed for adjustment of status based upon classification as a special immigrant pursuant to section 101(a)(27)(I) of the Act.

Dated: December 2, 2003.
Eduardo Aguirre,
Director, Bureau of Citizenship and Immigration Services.

[FR Doc. 04-1513 Filed 1-21-04; 2:14 pm]

BILLING CODE 4410-10-P